DEPARTMENT OF TRANSPORTATION

National Highway Traffic Safety Administration

Petition for Exemption From the Vehicle Theft Prevention Standard; Mazda

AGENCY: National Highway Traffic Safety Administration (NHTSA). Department of Transportation (DOT).

ACTION: Grant of petition for exemption.

SUMMARY: This document grants in full the petition of Mazda Motor Corporation (Mazda) of the Mazda2 vehicle line in accordance with 49 CFR part 543, Exemption from the Theft Prevention Standard. This petition is granted because the agency has determined that the antitheft device to be placed on the line as standard equipment is likely to be as effective in reducing and deterring motor vehicle theft as compliance with the parts-marking requirements of the Theft Prevention Standard (49 CFR part 541).

DATES: The exemption granted by this notice is effective beginning with the 2011 model year.

FOR FURTHER INFORMATION CONTACT: Ms. Rosalind Proctor, Office of International Policy, Fuel Economy and Consumer Programs, NHTSA, West Building, W43-302, 1200 New Jersey Avenue, SE., Washington, DC 20590. Ms. Proctor's telephone number is (202) 366-0846. Her fax number is (202) 493-2990.

SUPPLEMENTARY INFORMATION: In a petition dated September 24, 2009, Mazda requested an exemption from the parts-marking requirements of the Theft Prevention Standard (49 CFR part 541) for the MY 2011 Mazda2 vehicle line. The petition requested an exemption from parts-marking pursuant to 49 CFR part 543, Exemption from Vehicle Theft Prevention Standard, based on the installation of an antitheft device as standard equipment for the entire vehicle line.

Under § 543.5(a), a manufacturer may petition NHTSA to grant exemptions for one vehicle line per model year. In its petition, Mazda provided a detailed description and diagram of the identity, design, and location of the components of the antitheft device for the Mazda2 vehicle line. Mazda will install its passive transponder-based, electronic immobilizer antitheft device as standard equipment on its Mazda2 vehicle line beginning with MY 2011. Major components of the antitheft device will include a powertrain control module, an immobilizer control module, a security light, transceiver and a transponder ignition key. Mazda stated that the integration of the transponder into the ignition key prevents any inadvertent activation of the device. When the ignition is turned to the “ON” position a code is transmitted from the transponder to the immobilizer control module. If the transponder code matches the code programmed in the immobilizer control module, the vehicle's engine can be started. If the transponder code does not match, the engine will be disabled. Activation of the immobilization device occurs when the ignition is turned to the “OFF” position. Mazda's submission is considered a complete petition as required by 49 CFR 543.7, in that it meets the general requirements contained in § 543.5 and the specific content requirements of § 543.6.

Mazda stated that the antitheft device to be installed on the Mazda2 vehicle line is based on the design of the immobilizer device installed on the Ford Mustang GT, Cobra, Taurus LX, SHO and Sable LS models beginning with the 1996 model year. The device will provide protection against unauthorized use (i.e., starting and engine fueling), but the device will not provide any visible or audible indication of unauthorized vehicle entry (i.e., flashing lights or horn alarm).

In addressing the specific content requirements of 543.6, Mazda provided a detailed list of the tests conducted and believes that the device is reliable and durable since the device complied with its specified requirements for each test. Specifically, Mazda stated that the components of the immobilization device are tested in climatic, mechanical and chemical environments, and that the device is also tested for its immunity to various electromagnetic radiation and electric conduction.

Mazda stated that the design and the operation of the electronic engine immobilizer device makes conventional theft methods such as hot-wiring or attacking the ignition lock cylinder ineffective, and virtually eliminates drive-away thefts. Mazda also stated that there is no way to start the vehicle by mechanically overriding the device and that successful key duplication is virtually impossible.

There is currently no available theft rate data published by the agency for the Mazda2 vehicle line. However, Mazda provided data on the effectiveness of other similar antitheft devices installed on vehicle lines in support of its belief that its device will be at least as effective as those comparable devices. Mazda stated that according to National Crime Information Center's (NCIC) theft information, there was a 70% reduction in theft experienced when comparing MY 1997 Mustang vehicle thefts (with immobilizers) to MY 1995 Mustang vehicle thefts (without immobilizers). Mazda also stated that the Highway Loss Data Institute's (HLDI) September 1997 Theft Loss Bulletin reported an overall theft loss decrease of approximately 50% for both the Ford Mustang and Taurus models upon installation of an antitheft immobilization device. Additionally, Mazda stated that supportively, a July 2000 International Institute for Highway Safety news release reported that when comparing theft loss data before and after equipping vehicles with passive immobilizer devices, the data showed an average theft reduction of approximately 50% for vehicles with immobilizer devices.

Based on the evidence submitted by Mazda, the agency believes that the antitheft device for the Mazda2 vehicle line is likely to be as effective in reducing and deterring motor vehicle theft as compliance with the parts-marking requirements of the Theft Prevention Standard (49 CFR part 541).

The agency also notes that the device will provide four of the five types of performance listed in § 543.6(a)(3): promoting activation; preventing defeat or circumvention of the device by unauthorized persons; preventing operation of the vehicle by unauthorized entrants; and ensuring the reliability and durability of the device.

Pursuant to 49 U.S.C. 33106 and 49 CFR 543.7(b), the agency grants a petition for exemption from the parts-marking requirements of part 541 either in whole or in part, if it determines that, based upon substantial evidence, the standard equipment antitheft device is likely to be as effective in reducing and deterring motor vehicle theft as compliance with the parts-marking requirements of part 541. The agency finds that Mazda has provided adequate reasons for its belief that the antitheft device for the Mazda2 vehicle line is likely to be as effective in reducing and deterring motor vehicle theft as compliance with the parts-marking requirements of the Theft Prevention Standard (49 CFR part 541). This conclusion is based on the information Mazda provided about its device.

For the foregoing reasons, the agency hereby grants in full Mazda's petition for exemption for the Mazda2 vehicle line from the parts-marking requirements of 49 CFR part 541, beginning with the 2011 model year vehicles. The agency notes that 49 CFR Part 541, Appendix A-1, identifies those lines that are exempted from the Theft Prevention Standard for a given model year. 49 CFR 543.7(f) contains publication requirements incident to the disposition of all part 543 petitions. Advanced listing, including the release of future product nameplates, the beginning model year for which the petition is granted and a general description of the antitheft device is necessary in order to notify law enforcement agencies of new vehicle lines exempted from the parts-marking requirements of the Theft Prevention Standard.

If Mazda decides not to use the exemption for this line, it must formally notify the agency. If such a decision is made, the line must be fully marked according to the requirements under 49 CFR 541.5 and 541.6 (marking of major component parts and replacement parts).

NHTSA notes that if Mazda wishes in the future to modify the device on which this exemption is based, the company may have to submit a petition to modify the exemption. Part 543.7(d) states that a part 543 exemption applies only to vehicles that belong to a line exempted under this part and equipped with the anti-theft device on which the line's exemption is based. Further, part 543.9(c)(2) provides for the submission of petitions “to modify an exemption to permit the use of an antitheft device similar to but differing from the one specified in that exemption.”

The agency wishes to minimize the administrative burden that part 543.9(c)(2) could place on exempted vehicle manufacturers and itself. The agency did not intend in drafting part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: February 2, 2010.
Stephen R. Kratzke,
Associate Administrator for Rulemaking.

[FR Doc. 2010-2599 Filed 2-5-10; 8:45 am]

BILLING CODE 4910-59-P